SURFACE TRANSPORTATION BOARD

[Docket No. EP 290 (Sub-No. 4)]

Railroad Cost Recovery Procedures—Productivity Adjustment

AGENCY: Surface Transportation Board.

ACTION: Tentative Railroad Cost Recovery Procedures Productivity Adjustment.

SUMMARY: In a decision served on February 14, 2017, the Surface Transportation Board tentatively adopted 1.020 (2.0% per year) as the measure of average change in railroad productivity for the 2011-2015 (five-year) averaging period. This value represents an increase of 0.6% from the average for the 2010-2014 period. Because of the unique circumstances of this year's productivity adjustment calculation, including the proposal of a linking factor to address a change in methodology in the calculation of an input to the productivity adjustment, the Board is making its productivity adjustment tentative to allow public comment on this approach. The Board will hold a technical conference with interested parties and Board staff.

DATES: A technical conference with interested parties and Board staff will be held on February 28, 2017, at 10:00 a.m. Comments are due by March 16, 2017; replies are due by April 5, 2017. This decision adopting a tentative productivity adjustment is effective on March 1, 2017.

ADDRESSES: The technical conference will be held in the Board's Hearing Room at 395 E Street SW., Washington, DC 20423-0001. Send comments (an original and 10 copies) referring to Docket No. EP 290 (Sub-No. 4) to: Surface Transportation Board, 395 E Street SW., Washington, DC 20423-0001.

FOR FURTHER INFORMATION CONTACT: Pedro Ramirez, (202) 245-0333. Federal Information Relay Service (FIRS) for the hearing impaired, (800) 877-8339.

SUPPLEMENTARY INFORMATION: This conference will be available on the Board's Web site by live video streaming. To access the conference, click on the “Live Video” link under “Information Center” at the left side of the home page beginning at February 28, 2017, at 10:00 a.m.

Additional information is contained in the Board's decision, which is available on the Board's Web site at http://www.stb.gov. Copies of the decision may be purchased by contacting the Board's Office of Public Assistance, Governmental Affairs, and Compliance at (202) 245-0236. Assistance for the hearing impaired is available through FIRS at (800) 877-8339.

Decided: February 13, 2017.
By the Board, Board Members Begeman, Elliott, and Miller.
Raina S. Contee,
Clearance Clerk.

[FR Doc. 2017-03215 Filed 2-16-17; 8:45 am]

BILLING CODE 4915-01-P